DEPARTMENT OF DEFENSE

Office of the Secretary

Renewal of Department of Defense Federal Advisory Committees

AGENCY: DoD.

ACTION: Renewal of Federal Advisory Committee.

SUMMARY: The Department of Defense (DoD) is publishing this notice to announce that it is renewing the charter for the Board of Visitors, National Defense University (“the Board”).

FOR FURTHER INFORMATION CONTACT: Jim Freeman, Advisory Committee Management Officer for the Department of Defense, 703-692-5952.

SUPPLEMENTARY INFORMATION: This committee's charter is being renewed in accordance with the Federal Advisory Committee Act of 1972 (5 U.S.C. Appendix, as amended), the Government in the Sunshine Act of 1976 (5 U.S.C. 552b) (“the Sunshine Act”), and 41 CFR 102-3.50(d).

The Board is a discretionary Federal advisory committee that provides the Secretary of Defense and/or the Deputy Secretary of Defense, through the Chairman of the Joint Chiefs of Staff and the President of the National Defense University, independent advice and recommendations on the overall management and governance of the National Defense University in achieving its mission to support the joint warfighter by providing rigorous Joint Professional Military Education to members of the U.S. Armed Forces and select others in order to develop leaders who have the ability to operate and creatively think in an unpredictable and complex world.

The DoD, through the Office of the Chairman of the Joint Chiefs of Staff and the President of the National Defense University and the University Office of Academic Affairs, provides the necessary support for the performance of the Board's functions and ensures compliance with the requirements of the FACA, the Government in the Sunshine Act of 1976 (5 U.S.C. 552b, as amended) (“the Sunshine Act”), governing Federal statutes and regulations, and established DoD policies and procedures.

The Board shall be comprised of no more than 12 members, who are appointed by the Secretary of Defense. The members are eminent authorities in the fields of defense, management, leadership, academia, national military strategy or joint planning at all levels of war, joint doctrine, joint command and control, or joint requirements and development.

The Secretary of Defense or the Deputy Secretary of Defense, in consultation with the Chairman of the Joint Chiefs of Staff, shall select the Board's Chair and Co-Chair from the approved Board membership. The leadership appointments shall not exceed the individual member's approved term of service.

Board members, who are not full-time or permanent part-time Federal officers or employees, shall be appointed as experts or consultants, pursuant to 5 U.S.C. 3109, to serve as special government employee (SGE) members. Board members who are full-time or permanent part-time Federal employees shall be appointed, pursuant to 41 CFR 102-3.130(a), to serve as regular government employee (RGE) members.

Each Board member is appointed to provide advice to the government on the basis of his or her best judgment without representing any particular point of view and in a manner that is free from conflict of interest. With the exception of reimbursement for official Board-related travel and per diem, Board members shall serve without compensation.

The Secretary of Defense, or the Deputy Secretary of Defense, may approve the appointment of Board members for one-to-four year terms of service with annual renewals. However, no member, unless authorized by the Secretary of Defense or the Deputy Secretary of Defense, may serve more than two consecutive terms of service. This same term of service limitation also applies to any DoD authorized subcommittees.

In addition, the Chairman of the Joint Chiefs of Staff, pursuant to DoD policies and procedures, may appoint, as deemed necessary, non-voting consultants as subject matter experts (SMEs) to provide special expertise to the Board. These SMEs, if not full-time or part-time government employees, shall be appointed, pursuant to 5 U.S.C. 3109, on an intermittent basis to work specific Board-related efforts, shall have no voting rights whatsoever on the Board or any of its subcommittees, shall not participate in the Board's deliberations, and shall not count toward the Board's total membership. All experts and consultants shall serve terms of appointments as determined by the Chairman of the Joint Chiefs of Staff, and those appointments may be renewed, as appropriate.

DoD, when necessary and consistent with the Board's mission and DoD policies and procedures, may establish subcommittees, task forces, or working groups to support the Board. Establishment of subcommittees will be based upon a written determination, to include terms of reference, by the Secretary of Defense, the Deputy Secretary of Defense, or the Chairman of the Joint Chiefs of Staff, as the DoD sponsor.

Such subcommittees shall not work independently of the Board and shall report all of their recommendations and advice solely to the Board for full and open deliberation and discussion. Subcommittees, task forces, or working groups have no authority to make decisions and recommendations, verbally or in writing, on behalf of the Board. No subcommittee or its members can update or report, verbally or in writing, on behalf of the Board, directly to the DoD or to any Federal officer or employee.

The Secretary of Defense or the Deputy Secretary of Defense will appoint subcommittee members to a term of service of one-to-four years, with annual renewals, even if the member in question is already a member of the Board. Subcommittee members shall not serve more than two consecutive terms of service unless authorized by the Secretary of Defense or the Deputy Secretary of Defense.

Subcommittee members, if not full-time or part-time Federal officers or employees, shall be appointed as experts and consultants, pursuant to 5 U.S.C. 3109, to serve as SGE members. Subcommittee members who are full-time or permanent part-time Federal officers or employees will serve as RGE members, pursuant to 41 CFR 102-3.130(a). With the exception of reimbursement for official Board-related travel and per diem, subcommittee members shall serve without compensation.

All subcommittees operate under the provisions of FACA, the Sunshine Act, governing Federal statutes and regulations, and established DoD policies and procedures. The estimated number of Board meetings is two per year. The Board's Designated Federal Officer (DFO), pursuant to DoD policy, shall be a full-time or permanent part-time DoD employee appointed in accordance with governing DoD policies and procedures.

The Board's DFO is required to be in attendance at all meetings of the Board and any of its subcommittees for the entire duration of each and every meeting. However, in the absence of the Board's DFO, a properly approved Alternate DFO, duly appointed to the Board according to established DoD policies and procedures, shall attend the entire duration of the Board or any subcommittee meeting.

The DFO, or the Alternate DFO, shall call all meetings of the Board and its subcommittees; prepare and approve all meeting agendas; and adjourn any meeting when the DFO, or the Alternate DFO, determines adjournment to be in the public interest or required by governing regulations or DoD policies and procedures.

Pursuant to 41 CFR 102-3.105(j) and 102-3.140, the public or interested organizations may submit written statements to Board of Visitors, National Defense University membership about the Board's mission and functions. Written statements may be submitted at any time or in response to the stated agenda of planned meeting of the Board of Visitors, National Defense University.

All written statements shall be submitted to the DFO for the Board of Visitors, National Defense University, and this individual will ensure that the written statements are provided to the membership for their consideration. Contact information for the Board of Visitors, National Defense University DFO can be obtained from the GSA's FACA Database— http://www.facadatabase.gov/.

The DFO, pursuant to 41 CFR 102-3.150, will announce planned meetings of the Board of Visitors, National Defense University. The DFO, at that time, may provide additional guidance on the submission of written statements that are in response to the stated agenda for the planned meeting in question.

Dated: August 14, 2014.
Aaron Siegel,
Alternate OSD Federal Register Liaison Officer, Department of Defense.

[FR Doc. 2014-19631 Filed 8-18-14; 8:45 am]

BILLING CODE 5001-06-P